DEPARTMENT OF STATE

[Public Notice: 11839]

International Joint Commission Invites Public Comment on Lake Champlain-Richelieu River Flood Study Final Report

ACTION: Notice of public hearing on Lake Champlain-Richelieu River Flood Study Final Report.

SUMMARY: The International Joint Commission (IJC) announced today that it is inviting public comment on the final report of its International Lake Champlain-Richelieu River Study Board's (LCRRSB) Flood Study Final Report. The study explores the causes, impacts, risks, and solutions for flooding in Lake Champlain and the Richelieu River. Comments will be accepted at public hearings, webinars, and by mail, email and on-line through September 30, 2022. The LCRRSB's full report can be found on the IJC website at: www.ijc.org/lcrr.

FOR FURTHER INFORMATION CONTACT: Christina Chiasson (Ottawa) (613) 293-1031 at christina.chiasson@ijc.org or Kevin Bunch (Washington, DC) (202) 632-2014 at kevin.bunch@ijc.org.

SUPPLEMENTARY INFORMATION:

September 7-8, 2022, Public Hearings on LCRRSB's Flood Study Final Report

Date: September 7, 2022.

Time: 6:00 p.m.-8:00 p.m. EST.

Location: Royal Military College Saint-Jean, Auditorium Vanier, 15 Rue Jacques-Cartier Nord, Saint-Jean-sur-Richelieu, Quebec.

Date: September 8, 2022.

Time: 6:00 p.m.-8:00 p.m. EST.

Location: Hotel Vermont, Juniper Room, 41 Cherry St. Burlington, Vermont.

The International Joint Commission will receive comments in person at the public hearings. Public input is essential to the Commission's consideration of potential recommendations to the Governments of the United States and Canada.

For more information on the upcoming virtual webinars, visit www.ijc.org/lcrr.

The LCRRSB study findings and recommendations cover four key themes:

• Reduction in water levels via structural mitigation measures

• Effects on impeding flows during floods of existing and additional wetlands in the basin

• Enhancements to flood forecasting and flood response in the basin

• Floodplain management best practices and lessons learned in other watersheds

The LCRRSB was established by the IJC in 2016 to assist in responding to a reference by the governments of the United States and Canada under Article IX of the Boundary Waters Treaty. The reference was precipitated by major flooding in the Lake Champlain-Richelieu River basin in 2011. The basin forms in the United States between New York and Vermont, with much of Lake Champlain forming a border between the two states. The northern part of Lake Champlain crosses into Quebec, where it flows into the Richelieu River. The Richelieu River in turn joins with the St. Lawrence River near Montréal and continues flowing east to the Atlantic Ocean.

The governments requested the IJC to coordinate the full completion of Option B under the under the 2013 IJC Plan of Study. As part of this reference, the IJC was asked to evaluate the causes and impacts of the 2011 flooding, and to make recommendations to mitigate future flood risks in the basin.

IJC recommendations to the two federal governments under Article IX of the Boundary Waters Treaty are not binding and not to be considered decisions of the two governments.

The main study recommendations include:

1. That selective excavation of the riverbed near Saint-Jean-sur-Richelieu, Quebec combined with the construction of a submerged weir would reduce high water levels during floods and would have the added benefit of raising water levels on Lake Champlain during dry years. A moderate diversion of high flows through the Chambly Canal could also be considered for additional flood-reduction benefits.

2. The preservation of existing wetland areas, which can minimize water levels during floods while also stabilizing water levels during droughts in the basin.

3. The governments are encouraged to operationalize the improved modeling and forecasting tools and coherent risk assessment systems and support/maintain them after the Study. The agencies responsible for flood forecasting in the basin should continue collaboration and make available forecasting data so that forecasts on both sides of the border are of the highest possible quality and are accompanied by a concerted and consistent cross-border interpretation.

4. Improving floodplain mapping for the use of emergency managers and enhancing communication campaigns around flood risk in the basin. The Board also recommended that jurisdictions in the basin review their floodplain management policies through the lens of making these areas more resilient for possible future floods.

The full study board report and recommendations can be found at www.ijc.org/lcrr.

The International Joint Commission was established under the Boundary Waters Treaty of 1909 to help the United States and Canada prevent and resolve disputes over the use of the waters the two countries share. The Commission's responsibilities include investigating and reporting on issues of concern when asked by the governments of the two countries. For more information, visit the IJC website at ijc.org.

Susan E. Daniel,
Secretary, U.S. Section, International Joint Commission, Department of State.

[FR Doc. 2022-18503 Filed 8-26-22; 8:45 am]

BILLING CODE 4710-14-P